DEPARTMENT OF TRANSPORTATION

Federal Aviation Administration

14 CFR Part 39

[Docket No. FAA-2013-0423; Directorate Identifier 2012-NM-176-AD]

RIN 2120-AA64

Airworthiness Directives; DASSAULT AVIATION Airplanes

AGENCY: Federal Aviation Administration (FAA), DOT.

ACTION: Notice of proposed rulemaking (NPRM).

SUMMARY: We propose to adopt a new airworthiness directive (AD) for all DASSAULT AVIATION Model FAN JET FALCON, FAN JET FALCON SERIES C, D, E, F, and G airplanes; Model MYSTERE-FALCON 200 airplanes; and Model MYSTERE-FALCON 20-C5, 20-D5, 20-E5, and 20-F5 airplanes. This proposed AD was prompted by reports of a manufacturing defect in the charge indicator on fire extinguisher bottles. This proposed AD would require repetitive weighing of fire extinguisher bottles having a certain part number, and eventual replacement of those bottles to terminate the repetitive weighing. We are proposing this AD to detect and correct a dormant failure in the fire suppression system, which could result in the inability to put out a fire in an engine, auxiliary power unit, or rear compartment.

DATES: We must receive comments on this proposed AD by July 5, 2013.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact

Dassault Falcon Jet, P.O. Box 2000, South Hackensack, NJ 07606; telephone 201-440-6700; Internet http://www.dassaultfalcon.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; phone: 425-227-1137; fax: 425-227-1149.

SUPPLEMENTARY INFORMATION:

Comments Invited

We invite you to send any written relevant data, views, or arguments about this proposal. Send your comments to an address listed under the ADDRESSES section. Include “Docket No. FAA-2013-0423; Directorate Identifier 2012-NM-176-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the Technical Agent for Member States of the European Community, has issued EASA Airworthiness Directive 2012-0189, dated September 24, 2012 (referred to after this as “the MCAI”), to correct an unsafe condition for the specified products. The MCAI states:

A manufacturing defect of the charge indicator of fire extinguisher bottles has been reported on Dassault Aviation Fan Jet Falcon and Mystère-Falcon 20 series aeroplanes.

The results of the investigations concluded that this defect may lead to corrosion of the charge indicator, causing improper indication of loss of pressure inside the bottle. In addition, the Part Numbers (P/N) of the fire extinguishers and batch numbers of the affected charge indicators have been identified.

This condition, if not detected and corrected, could constitute a dormant failure that might impact the capability to extinguish a fire, either in an engine or the Auxiliary Power Unit (APU) or the rear compartment, possibly resulting in damage to the aeroplane and injury to the occupants.

For the reasons described above, this [EASA] AD requires repetitive weighing of the affected fire extinguishers bottles and, ultimately replacement of the affected bottles with serviceable bottles. In addition, this AD prohibits installation of an affected fire extinguisher bottle.

You may obtain further information by examining the MCAI in the AD docket.

Relevant Service Information

Dassault Aviation has issued the following service information:

• Mandatory Service Bulletin F20-785, dated June 11, 2012 (for Model FAN JET FALCON, FAN JET FALCON SERIES C, D, E, F, and G airplanes; and MYSTERE-FALCON 20-C5, 20-D5, 20-E5, and 20-F5 airplanes);

• Mandatory Service Bulletin F200-131, dated June 11, 2012 (for Model MYSTERE-FALCON 200 airplanes);

• Dassault Maintenance Procedure 26-20-3, “Weighing of Engine Freon Fire Extinguishers,” dated October 2009, of Chapter 26 of Book 2 of the Falcon 20 Maintenance Manual (for Model FAN JET FALCON, FAN JET FALCON SERIES C, D, E, F, and G airplanes; and Model MYSTERE-FALCON 20-C5, 20-D5, 20-E5, and 20-F5 airplanes);

• Dassault Aviation Maintenance Procedure 26-20-2, “Removal of Pyrotechnical Cartridge for Check/Replacement,” dated October 2010, of Chapter 26 of Book 2 of the Falcon 20 Maintenance Manual (for Model FAN JET FALCON, FAN JET FALCON SERIES C, D, E, F, and G airplanes; and Model MYSTERE-FALCON 20-C5, 20-D5, 20-E5, and 20-F5 airplanes);

• Dassault Aviation Falcon 200 Maintenance Requirement Card 171.0, “Engine/Rear compartment Extinguisher (14W1-14W2)—Removal/Installation (ATA 26-20-06), dated December 2011, of Chapter 26 of Book 1 of the Falcon 200 Maintenance Manual (for Model MYSTERE-FALCON 200 airplanes); and

• Dassault Aviation Falcon 200 Maintenance Requirement Card 171.0, “Engine/Rear compartment Extinguisher (14W1-14W2)—Check/Replacement of Percussion Cartridge (ATA 26-20-08),” dated December 2011, of Chapter 26 of Book 1 of the Falcon 200 Maintenance Manual (for Model MYSTERE-FALCON 200 airplanes).

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 185 products of U.S. registry. We also estimate that it would take about 4 work-hours per product to comply with the basic requirements of this proposed AD. The average labor rate is $85 per work-hour. Required parts would cost about $6,400 per product. Where the service information lists required parts costs that are covered under warranty, we have assumed that there will be no charge for these parts. As we do not control warranty coverage for affected parties, some parties may incur costs higher than estimated here. Based on these figures, we estimate the cost of the proposed AD on U.S. operators to be up to $1,246,900, or $6,740 per product.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation: Docket No. FAA-2013-0423; Directorate Identifier 2012-NM-176-AD.

(a) Comments Due Date

We must receive comments by July 5, 2013.

(b) Affected ADs

None.

(c) Applicability

This AD applies to DASSAULT AVIATION Model FAN JET FALCON, FAN JET FALCON SERIES C, D, E, F, and G airplanes; Model MYSTERE-FALCON 200 airplanes; and Model MYSTERE-FALCON 20-C5, 20-D5, 20-E5, and 20-F5 airplanes, certificated in any category, all serial numbers.

(d) Subject

Joint Aircraft System Component (JASC)/Air Transport Association (ATA) of America Code 26, Fire protection.

(e) Reason

This AD was prompted by reports of a manufacturing defect in the charge indicator on fire extinguisher bottles. We are issuing this AD to detect and correct a dormant failure in the fire suppression system, which could result in the inability to put out a fire in an engine, auxiliary power unit, or rear compartment.

(f) Compliance

You are responsible for having the actions required by this AD performed within the compliance times specified, unless the actions have already been done.

(g) Definitions

For the purposes of this AD the following definitions apply:

(1) An affected fire extinguisher bottle is any fire extinguisher bottle having a part number (P/N) included in table 1 to paragraph (h) of this AD and having a manufacturing batch number 168 through 200 inclusive on the data plate of the charge indicator.

(2) A serviceable fire extinguisher bottle is any fire extinguisher bottle having a manufacturing batch number lower than 168 or higher than 200 on the charge indicator data plate.

(h) Determining Charge Indicator Batch Number

Within 30 days or 100 flight hours after the effective date of this AD, whichever occurs first: Determine the manufacturing batch number for the charge indicator installed on each engine and auxiliary power unit (APU) fire extinguisher bottle having a part number (P/N) included in table 1 to paragraph (h) of this AD, in accordance with the Accomplishment Instructions of Dassault Mandatory Service Bulletin F20-785, dated June 11, 2012 (for Model FAN JET FALCON, FAN JET FALCON SERIES C, D, E, F, and G airplanes; and Model MYSTERE-FALCON 20-C5, 20-D5, 20-E5, and 20-F5 airplanes); or Dassault Mandatory Service Bulletin F200-131, dated June 11, 2012 (for Model MYSTERE-FALCON 200 airplanes).

Table 1 to Paragraph (h) of This AD—Affected Fire Extinguisher Bottles
Type of Bottle— | P/N—
Engine Fire Extinguisher Bottle | P/N 111-1555-324-12A.
| P/N 811456.
| P/N 111-355-32142A.
APU Fire Extinguisher Bottle | P/N 111-011-324-12A. P/N 811475.

(1) For fire extinguisher bottles with P/Ns that are not included in table 1 to paragraph (h) of this AD, no further action is required by this paragraph.

(2) For any affected charge indicator, as identified in paragraph (g)(1) of this AD: Before further flight, weigh each affected fire extinguisher bottle, in accordance with the instructions specified in Dassault Maintenance Procedure 26-20-3, “Weighing of Engine Freon Fire Extinguishers,” dated October 2009, of Chapter 26 of Book 2 of the Falcon 20 Maintenance Manual (for Model FAN JET FALCON, FAN JET FALCON SERIES C, D, E, F, and G airplanes; and Model MYSTERE-FALCON 20-C5, 20-D5, 20-E5, and 20-F5 airplanes); or Dassault Aviation Falcon 200 Maintenance Requirement Card 171.0, “Engine/Rear compartment Extinguisher (14W1-14W2)—Removal/Installation (ATA 26-20-06),” dated December 2011, of Chapter 26 of Book 1 of the Falcon 200 Maintenance Manual (for Model MYSTERE-FALCON 200 airplanes). Weigh the fire extinguishers thereafter at intervals not to exceed 12 months until the replacement specified in paragraph (h)(2)(i), (h)(2)(ii), (h)(2)(iii), (h)(2)(iv), or (j) of this AD is accomplished. If it is determined that the fire extinguisher weighs less than the lowest weight limit indicated on the fire extinguisher's data plate, before further flight, replace any affected fire extinguisher bottle and charge indicator cartridge, with a serviceable part, in accordance with the applicable service information or method specified in paragraph (h)(2)(i), (h)(2)(ii), (h)(2)(iii), or (h)(2)(iv) of this AD.

(i) For Model FAN JET FALCON, FAN JET FALCON SERIES C, D, E, F, and G airplanes; and Model MYSTERE-FALCON 20-C5, 20-D5, 20-E5, and 20-F5 airplanes: Replace the charge indicator cartridge with a serviceable part, in accordance with the instructions specified in Dassault Aviation Maintenance Procedure 26-20-2, “Removal of Pyrotechnical Cartridge for Check/Replacement,” dated October 2010, of Chapter 26 of Book 2 of the Falcon 20 Maintenance Manual.

(ii) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the European Aviation Safety Agency (EASA) (or its delegated agent).

(iii) For Model MYSTERE-FALCON 200 airplanes: Replace the charge indicator cartridge with a serviceable part, in accordance with Dassault Aviation Falcon 200 Maintenance Requirement Card 171.0, “Engine/Rear compartment Extinguisher (14W1-14W2)—Check/Replacement of Percussion Cartridge (ATA 26-20-08),” dated December 2011, of Chapter 26 of Book 1 of the Falcon 200 Maintenance Manual.

(iv) For Model MYSTERE-FALCON 200 airplanes: Replace the fire extinguisher bottle with a serviceable part, in accordance with the instructions specified in Dassault Aviation Falcon 200 Maintenance Requirement Card 171.0, “Engine/Rear compartment Extinguisher (14W1-14W2)—Removal/Installation (ATA 26-20-06),” dated December 2011, of Chapter 26 of Book 1 of the Falcon 200 Maintenance Manual.

(i) Repetitive Inspection To Determine If Charge Indicator Cartridge Was Fired

Within 6 months after the effective date of this AD: Do an inspection to determine if the charge indicator cartridge installed on each engine and APU fire extinguisher bottle, as identified in table 1 to paragraph (h) of this AD, was fired, in accordance with the instructions specified in Dassault Aviation Maintenance Procedure 26-20-2, “Removal of Pyrotechnical Cartridge for Check/Replacement,” dated October 2010, of Chapter 26 of Book 2 of the Falcon 20 Maintenance Manual (for Model FAN JET FALCON, FAN JET FALCON SERIES C, D, E, F, and G airplanes; and Model MYSTERE-FALCON 20-C5, 20-D5, 20-E5, and 20 F5 airplanes); or Dassault Aviation Falcon 200 Maintenance Requirement Card 171.0, “Engine/Rear compartment Extinguisher (14W1-14W2)—Check/Replacement of Percussion Cartridge (ATA 26-20-08),” dated December 2011, of Chapter 26 of Book 1 of the Falcon 200 Maintenance Manual (for Model MYSTERE-FALCON 200 airplanes). Repeat the inspection thereafter at intervals not to exceed 6 months until the replacement specified in paragraph (i)(1), (i)(2), (i)(3), (i)(4), or (j) of this AD is accomplished. If it is determined that any charge indicator cartridge was fired, before further flight, replace the affected fire extinguisher bottle and charge indicator cartridge with a serviceable part in accordance with the applicable service information or method specified in paragraph (i)(1), (i)(2), (i)(3), or (i)(4) of this AD.

(1) For Model FAN JET FALCON, FAN JET FALCON SERIES C, D, E, F, and G airplanes; and Model MYSTERE-FALCON 20-C5, 2-D5, 20-E5, and 20-F5 airplanes: Replace the charge indicator cartridge with a serviceable part, in accordance with the instructions specified in Dassault Aviation Maintenance Procedure 26-20-2, “Removal of Pyrotechnical Cartridge for Check/Replacement,” dated October 2010, of Chapter 26 of Book 2 of the Falcon 20 Maintenance Manual.

(2) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the European Aviation Safety Agency (EASA) (or its delegated agent).

(3) For Model MYSTERE-FALCON 200 airplanes: Replace the charge indicator cartridge with a serviceable part, in accordance with the instructions specified in Dassault Aviation Falcon 200 Maintenance Requirement Card 171.0, “Engine/Rear compartment Extinguisher (14W1-14W2)—Check/Replacement of Percussion Cartridge (ATA 26-20-08),” dated December 2011, of Chapter 26 of Book 1 of the Falcon 200 Maintenance Manual.

(4) For Model MYSTERE-FALCON 200 airplanes: Replace the fire extinguisher bottle with a serviceable part, in accordance with the instructions specified in Dassault Aviation Falcon 200 Maintenance Requirement Card 171.0, “Engine/Rear compartment Extinguisher (14W1-14W2)—Removal/Installation (ATA 26-20-06), dated December 2011, of Chapter 26 of Book 1 of the Falcon 200 Maintenance Manual.

(j) Replacement of Fire Extinguisher Bottle and Charge Indicator Cartridge

Unless previously accomplished as specified in paragraphs (h) or (i) of this AD: Within 60 months after the effective date of this AD, replace any affected fire extinguisher bottle and charge indicator cartridge, as specified in paragraph (g)(1) of this AD, with a serviceable part, in accordance with the applicable service information or method specified in paragraph (j)(1), (j)(2), (j)(3), or (j)(4) of this AD. Replacement of any affected fire extinguisher bottle and charge indicator cartridge with a serviceable part terminates the repetitive actions specified in paragraphs (h) and (i) of this AD.

(1) For Model FAN JET FALCON, FAN JET FALCON SERIES C, D, E, F, and G airplanes; and Model MYSTERE-FALCON 20-C5, 20-D5, 20-E5, and 20-F5 airplanes: Replace the charge indicator cartridge with a serviceable part, in accordance with the instructions specified in Dassault Aviation Maintenance Procedure 26-20-2, “Removal of Pyrotechnical Cartridge for Check/Replacement,” dated October 2010, of Chapter 26 of Book 2 of the Falcon 20 Maintenance Manual.

(2) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the EASA (or its delegated agent).

(3) For Model MYSTERE-FALCON 200 airplanes: Replace the charge indicator cartridge with a serviceable part, in accordance with the instructions specified in Dassault Aviation Falcon 200 Maintenance Requirement Card 171.0, “Engine/Rear compartment Extinguisher (14W1-14W2)—Check/Replacement of Percussion Cartridge (ATA 26-20-08),” dated December 2011, of Chapter 26 of Book 1 of the Falcon 200 Maintenance Manual.

(4) For Model MYSTERE-FALCON 200 airplanes: Replace the fire extinguisher bottle with a serviceable part, in accordance with the instructions specified in Dassault Aviation Falcon 200 Maintenance Requirement Card 171.0, “Engine/Rear compartment Extinguisher (14W1-14W2)—Removal/Installation (ATA 26-20-06), dated December 2011, of Chapter 26 of Book 1 of the Falcon 200 Maintenance Manual.

(k) Parts Installation Prohibition

As of the effective date of this AD, no person may install, on any airplane, a fire extinguisher bottle having a P/N included in table 1 to paragraph (h) of this AD, fitted with a charge indicator having a manufacturing batch number on the data plate of 168 through 200 inclusive.

(l) Other FAA AD Provisions

The following provisions also apply to this AD:

(1) AMOCs: The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch; ANM-116, Transport Airplane Directorate, FAA, 1601 Lind Avenue SW., Renton, Washington 98057-3356; telephone 425-227-1137; fax 425-227-1137. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to MCAI EASA Airworthiness Directive 2012-0189, dated September 24, 2012, and the following service information for related information.

(i) Dassault Mandatory Service Bulletin F20-785, dated June 11, 2012.

(ii) Dassault Mandatory Service Bulletin F200-131, dated June 11, 2012.

(iii) Dassault Aviation Maintenance Procedure 26-20-2, “Removal of Pyrotechnical Cartridge for Check/Replacement,” dated October 2010, of Chapter 26 of Book 2 of the Falcon 20 Maintenance Manual.

(iv) Dassault Maintenance Procedure 26-20-3, “Weighing of Engine Freon Fire Extinguishers,” dated October 2009, of Chapter 26 of Book 2 of the Falcon 20 Maintenance Manual.

(v) Dassault Aviation Falcon 200 Maintenance Requirement Card 171.0, “Engine/Rear compartment Extinguisher (14W1-14W2)—Removal/Installation (ATA 26-20-06),” dated December 2011, of Chapter 26 of Book 1 of the Falcon 200 Maintenance Manual.

(vi) Dassault Aviation Falcon 200 Maintenance Requirement Card 171.0, “Engine/Rear compartment Extinguisher (14W1-14W2)—Check/Replacement of Percussion Cartridge (ATA 26-20-08),” dated December 2011, of Chapter 26 of Book 1 of the Falcon 200 Maintenance Manual.

(2) For service information identified in this AD, contact Dassault Falcon Jet, P.O. Box 2000, South Hackensack, NJ 07606; telephone 201-440-6700; Internet http://www.dassaultfalcon.com. You may review copies of the referenced service information at the FAA, Transport Airplane Directorate, 1601 Lind Avenue SW., Renton, WA. For information on the availability of this material at the FAA, call 425-227-1221.

Issued in Renton, Washington, on May 13, 2013.
Ali Bahrami,
Manager, Transport Airplane Directorate, Aircraft Certification Service.

[FR Doc. 2013-12077 Filed 5-20-13; 8:45 am]

BILLING CODE 4910-13-P